INTERNATIONAL TRADE COMMISSION

[USITC SE-10-022]

Government in the Sunshine Act Meeting Notice

Agency Holding the Meeting: United States International Trade Commission.

Time and Date: June 30, 2010 at 10 a.m.

Place: Room 101, 500 E Street SW., Washington, DC 20436, Telephone: (202) 205-2000.

Status: Open to the public.

Matters To Be Considered 1. Agenda for future meetings: none.

2. Minutes.

3. Ratification list.

4. Inv. Nos. 701-TA-473 and 731-TA-1173 (Final) (Certain Potassium Phosphate Salts from China)—briefing and vote. (The Commission is currently scheduled to transmit its determinations and Commissioners' opinions to the Secretary of Commerce on or before July 13, 2010.)

5. Outstanding action jackets: None.

In accordance with Commission policy, subject matter listed above, not disposed of at the scheduled meeting, may be carried over to the agenda of the following meeting.

Issued: June 22, 2010.
By order of the Commission:
William R. Bishop,
Hearings and Meetings Coordinator.

[FR Doc. 2010-15521 Filed 6-22-10; 4:15 pm]

BILLING CODE 7020-02-P